DEPARTMENT OF AGRICULTURE

Food and Nutrition Service

Summer Food Service Program for Children; Program Reimbursement for 2007

AGENCY: Food and Nutrition Service, USDA.

ACTION: Notice.

SUMMARY: This notice informs the public of the annual adjustments to the reimbursement rates for meals served in the Summer Food Service Program for Children (SFSP). These adjustments reflect changes in the Consumer Price Index and are required by the statute governing the Program. In addition, further adjustments are made to these rates to reflect the higher costs of providing meals in the States of Alaska and Hawaii, as authorized by the William F. Goodling Child Nutrition Reauthorization Act of 1998.

EFFECTIVE DATE: January 1, 2007.

FOR FURTHER INFORMATION CONTACT: Keith Churchill or Norma Ball, Policy and Program Development Branch, Child Nutrition Division, Food and Nutrition Service, U.S. Department of Agriculture, 3101 Park Center Drive, Room 640, Alexandria, Virginia 22302, (703) 305-2590.

SUPPLEMENTARY INFORMATION: This program is listed in the Catalog of Federal Domestic Assistance under No. 10.559 and is subject to the provisions of Executive Order 12372 which requires intergovernmental consultation with State and local officials (7 CFR part 3015, Subpart V, and final rule related notice published at 48 FR 29114, June 24, 1983).

In accordance with the Paperwork Reduction Act of 1995 (44 U.S.C. 3501-3518), no new recordkeeping or reporting requirements have been included that are subject to approval from the Office of Management and Budget.

This notice is not a rule as defined by the Regulatory Flexibility Act (5 U.S.C. 601-612) and thus is exempt from the provisions of that Act. Additionally, this notice has been determined to be exempt from review by the Office of Management and Budget under Executive Order 12866.

Definitions

The terms used in this Notice shall have the meaning ascribed to them in the regulations governing the Summer Food Service Program for Children (7 CFR part 225).

Background

In accordance with Section 13 of the National School Lunch Act (NSLA) (42 U.S.C. 1761), Section 12 of the NSLA (42 U.S.C. 1760 (f)), and the regulations governing the SFSP (7 CFR part 225), notice is hereby given of adjustments in Program payments for meals served to children participating in the SFSP in 2007. Adjustments are based on changes in the food away from home series of the Consumer Price Index (CPI) for All Urban Consumers for the period November 2005 through November 2006.

The 2007 reimbursement rates, in dollars, for all States excluding Alaska and Hawaii:

Maximum per Meal Reimbursement Rates for All States (not AK or HI)
| Operating costs | Administrative costs: Rural or self-preparation sites | Administrative costs: Other types of sites
Breakfast | $1.51 | $0.1500 | $0.1200
Lunch or Supper | 2.64 | 0.2750 | 0.2300
Snacks | 0.61 | 0.0750 | 0.0600

The 2007 reimbursement rates, in dollars, for Alaska:

Maximum per Meal Reimbursement Rates for Alaska Only
| Operating costs | Administrative costs: Rural or self-preparation sites | Administrative costs: Other types of sites
Breakfast | $2.45 | $0.2425 | $0.1925
Lunch or Supper | 4.28 | 0.4475 | 0.3700
Snacks | 1.00 | 0.1225 | 0.0950

The 2007 reimbursement rates, in dollars, for Hawaii:

Maximum per Meal Reimbursement Rates for Hawaii Only
| Operating costs | Administrative costs: Rural or self-preparation sites | Administrative costs: Other types of sites
Breakfast | $1.77 | $0.1750 | $0.1400
Lunch or Supper | 3.09 | 0.3225 | 0.2675
Snacks | 0.72 | 0.0875 | 0.0700

The total amount of payments to State agencies for disbursement to Program sponsors will be based upon these Program reimbursement rates and the number of meals of each type served.

The above reimbursement rates, for both operating and administrative reimbursement rates, represent a 3.07 percent increase during 2006 (from 195.6 in November 2005 to 201.6 in November 2006) in the food away from home series of the Consumer Price Index for All Urban Consumers, published by the Bureau of Labor Statistics of the Department of Labor. The Department would like to point out that the SFSP administrative reimbursement rates continue to be adjusted up or down to the nearest quarter-cent, as has previously been the case. Additionally, operating reimbursement rates have been rounded down to the nearest whole cent, as required by Section 11(a)(3)(B) of the NSLA (42 U.S.C. 1759 (a)(3)(B)).

Authority: Secs. 9, 13, and 14, National School Lunch Act, as amended (42 U.S.C. 1758, 1761, and 1762a).

Dated: January 23, 2007.
Roberto Salazar,
Administrator.

[FR Doc. 07-346 Filed 1-26-07; 8:45 am]

BILLING CODE 3410-30-P